DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) modified
Unincorporated Areas of Mono County, California
Docket No.: FEMA-B-1233
California | Unincorporated Areas of Mono County | Blind Spring Valley | At the Spring Canyon Creek Benton confluence | +5354
|  |  | Approximately 4.3 miles upstream of the Spring Canyon Creek Benton confluence | +5738
California | Unincorporated Areas of Mono County | Shallow flooding | Approximately 2.3 miles southeast of the intersection of White Mountain Ranch Road and State Route 6 | #1
California | Unincorporated Areas of Mono County | Shallow flooding | Approximately 2.7 miles southeast of the intersection of White Mountain Ranch Road and State Route 6 | #2
California | Unincorporated Areas of Mono County | Shallow flooding | Approximately 3.0 miles northeast of the intersection of Goolsby Ranch Road and State Route 6 | #1
California | Unincorporated Areas of Mono County | Shallow flooding | Approximately 2.9 miles northeast of the intersection of Chidago Way and Piute Lane | #1
California | Unincorporated Areas of Mono County | Shallow flooding | Approximately 2.9 miles southeast of the intersection of White Mountain Ranch Road and State Route 6 | #3
California | Unincorporated Areas of Mono County | Spring Canyon Creek Benton | Approximately 3.4 miles downstream of Goolsby Ranch Road | +5226
|  |  | Approximately 1.3 miles upstream of Snipes Ranch Road | +5483
California | Unincorporated Areas of Mono County | Spring Canyon Creek Chalfant | Approximately 3.1 miles upstream of the Inyo County boundary | +4233
|  |  | Approximately 7.8 miles upstream of the Inyo County boundary | +4366
California | Unincorporated Areas of Mono County | Spring Canyon Creek Hammil | Approximately 3.1 miles downstream of the Willow Creek Aqueduct | +4531
|  |  | Approximately 0.5 mile upstream of State Route 6 | +4722
* National Geodetic Vertical Datum. + North American Vertical Datum. # Depth in feet above ground. ‸ Mean Sea Level, rounded to the nearest 0.1 meter.
ADDRESSES
Unincorporated Areas of Mono County
Maps are available for inspection at the Mono County Department of Public Works, 74 North School Street, Bridgeport, CA 93517.
Unincorporated Areas of Tulare County, California
Docket No.: FEMA-B-1230
California | Unincorporated Areas of Tulare County | Lake Kaweah | Entire shoreline | +722
California | Unincorporated Areas of Tulare County | Middle Fork Kaweah River | Approximately 1.0 mile downstream of the South Fork Kaweah River confluence | +722
|  |  | Approximately 0.5 mile downstream of the South Fork Kaweah River confluence | +722
* National Geodetic Vertical Datum. + North American Vertical Datum. # Depth in feet above ground. ‸ Mean Sea Level, rounded to the nearest 0.1 meter.
ADDRESSES
Unincorporated Areas of Tulare County
Maps are available for inspection at the Tulare County Planning Division, 411 East Kern Avenue, Tulare, CA 93274.

Flooding source(s) | Location of referenced elevation | * Elevation in feet (NGVD) + Elevation in feet (NAVD) # Depth in feet above ground ‸ Elevation in meters (MSL) modified | Communities affected
Lawrence County, Arkansas, and Incorporated Areas
Docket No.: FEMA-B-1204
Turkey Creek | Approximately 1.2 miles downstream of Southwest Broad Street | +261 | Unincorporated Areas of Lawrence County.
| Approximately 0.5 mile downstream of Southwest Broad Street | +263
Village Creek | Approximately 1.2 miles downstream of West Free Street | +262 | City of Walnut Ridge, Unincorporated Areas of Lawrence County.
| Approximately 0.5 mile upstream of U.S. Route 67 | +267
* National Geodetic Vertical Datum. + North American Vertical Datum. # Depth in feet above ground. ‸ Mean Sea Level, rounded to the nearest 0.1 meter.
ADDRESSES
City of Walnut Ridge
Maps are available for inspection at the Fire Department, 3227 U.S. Route 67B, Walnut Ridge, AR 72476.
Unincorporated Areas of Lawrence County
Maps are available for inspection at the Lawrence County Recorder's Office, 315 West Main Street, Room 12, Walnut Ridge, AR 72476.
Boulder County, Colorado, and Incorporated Areas
Docket No.: FEMA-B-1131
55th Street Split Flow | Approximately 350 feet upstream of Burlington Northern and Sante Fe Railroad | +5222 | City of Boulder, Unincorporated Areas of Boulder County.
| Just downstream of South Boulder Road | +5345
Dry Creek Ditch No. 2 | Approximately 800 feet upstream of the confluence with South Boulder Creek | +5192 | City of Boulder, Unincorporated Areas of Boulder County.
| At Arapahoe Avenue | +5234
South Boulder Creek | At the confluence with Boulder Creek | +5175 | City of Boulder, Unincorporated Areas of Boulder County.
| Approximately 770 feet upstream of Eldorado Springs Road | +5820
West Valley Split Flow | Approximately 200 feet upstream of Burlington Northern and Santa Fe Railroad | +5226 | City of Boulder, Unincorporated Areas of Boulder County.
| Just downstream of Apache Road | +5345
* National Geodetic Vertical Datum. + North American Vertical Datum. # Depth in feet above ground. ‸ Mean Sea Level, rounded to the nearest 0.1 meter.
ADDRESSES
City of Boulder
Maps are available for inspection at 1739 Broadway Street, Boulder, CO 80306.
Unincorporated Areas of Boulder County
Maps are available for inspection at 1739 Broadway Street, Boulder, CO 80306.
Lake County, Florida, and Incorporated Areas
Docket No.: FEMA-B-1208
Leesburg Tributary 1 | Approximately 1,225 feet downstream of the Flying Baron Estates Airport Runway | +64 | City of Leesburg, Unincorporated Areas of Lake County.
| At the downstream side of State Route 44 | +81
Leesburg Tributary 2 | Approximately 960 feet downstream of Youngs Road | +66 | City of Leesburg, Unincorporated Areas of Lake County.
| Approximately 105 feet upstream of West Main Street | +83
Leesburg Tributary 2-1 | At the Leesburg Tributary 2 confluence | +78 | City of Leesburg, Unincorporated Areas of Lake County.
| Approximately 1,410 feet upstream of the Leesburg Tributary 2 confluence | +78
Leesburg Tributary 3 | Approximately 1,550 feet downstream of Youngs Road | +65 | City of Leesburg, Unincorporated Areas of Lake County.
| Approximately 325 feet upstream of Youngs Road | +76
Multiple Ponding Areas | Area bound by Violet Avenue to the north, Royal Trails Road to the east, and Maggie Jones Road to the south and west | +42 | Unincorporated Areas of Lake County.
Multiple Ponding Areas | Area bound by Pandorea Avenue to the north, Greenbrier Street to the east, State Route 44 to the south, and Harbor Way to the west | +42 | Unincorporated Areas of Lake County.
Multiple Ponding Areas | Area bound by County Route 42 to the north, State Route 44 to the east and south, and County Route 439 to the west | +43 | Unincorporated Areas of Lake County.
Multiple Ponding Areas | Area bound by Alder Avenue to the north, Beach Road to the east, Poinciana Street to the south, and Royal Trails Road to the west | +44 | Unincorporated Areas of Lake County.
Multiple Ponding Areas | Area bound by Poinciana Street to the north and east, and Royal Trails Road to the south and west | +44 | Unincorporated Areas of Lake County.
Multiple Ponding Areas | Area bound by Clover Avenue to the north, Wildflower Way to the east, State Route 44 to the south, and Sunflower Street to the west | +44 | Unincorporated Areas of Lake County.
Multiple Ponding Areas | Area bound by Royal Trails Road to the north and east, Poinciana Street to the south, and Tamarac Street to the west | +44 | Unincorporated Areas of Lake County.
Multiple Ponding Areas | Area bound by Maggie Jones Road to the north, Royal Trails Road to the east, State Route 44 to the south, and Lake Norris Road to the west | +45 | Unincorporated Areas of Lake County.
Multiple Ponding Areas | Area bound by Division Street to the north, State Route 44 to the east and south, and Aspen Street to the west | +45 | Unincorporated Areas of Lake County.
Multiple Ponding Areas | Area approximately 665 feet northeast of the intersection of Royal Trails Road and Maggie Jones Road, bound by West Thyme Avenue to the north, Poinciana Street to the east, Red Oak Avenue to the south, and Royal Trails Road to the west | +45 | Unincorporated Areas of Lake County.
Multiple Ponding Areas | Area bound by Saffron Avenue to the north, State Route 44 to the east, and Royal Trails Road to the south and west | +45 | Unincorporated Areas of Lake County.
Multiple Ponding Areas | Area bound by Sawgrass Fill Road to the north, Royal Trails Road to the east, State Route 44 to the south, and Harbor Way to the west | +46 | Unincorporated Areas of Lake County.
Multiple Ponding Areas | Area bound by Hawthorn Avenue to the north, Alder Way to the east, and Poinciana Street to the south and west | +46 | Unincorporated Areas of Lake County.
Multiple Ponding Areas | Area bound by Apricot Avenue to the north, Fir Street to the east, Quince Avenue to the south, and Royal Trails Road to the west | +46 | Unincorporated Areas of Lake County.
Multiple Ponding Areas | Area bound by Tamarac Street to the north and west, Royal Trails Road to the east, and Violet Avenue to the south | +46 | Unincorporated Areas of Lake County.
Multiple Ponding Areas | Area bound by Royal Trails Road to the north and west, Viola Way to the east, and West Thyme Avenue to the south | +46 | Unincorporated Areas of Lake County.
Multiple Ponding Areas | Area bound by West Thyme Avenue to the north, Poinciana Street to the east, Hemlock Lane to the south, and Royal Trails Road to the west | +46 | Unincorporated Areas of Lake County.
Multiple Ponding Areas | Area bound by Bears Lane to the north, Flag Street to the east, Red Oak Avenue to the south, and Jericho Trail to the west | +47 | Unincorporated Areas of Lake County.
Multiple Ponding Areas | Area bound by West Thyme Avenue to the north, Poinciana Street to the east, and Maggie Jones Road to the south and west | +47 | Unincorporated Areas of Lake County.
Multiple Ponding Areas | Area approximately 0.4 mile northeast of the intersection of Royal Trails Road and Maggie Jones Road, bound by West Thyme Avenue to the north, Poinciana Street to the east, Red Oak Avenue to the south, and Royal Trails Road to the west | +47 | Unincorporated Areas of Lake County.
Multiple Ponding Areas | Area approximately 90 feet southeast of the intersection of Royal Trails Road and West Thyme Avenue, bound by West Thyme Avenue to the north, West Thyme Court to the east, Daffodil Avenue to the south, and Royal Trails Road to the west | +47 | Unincorporated Areas of Lake County.
Multiple Ponding Areas | Area bound by Quince Avenue to the north, Cashew Street to the east, Poinciana Street to the south, and Tamarac Street to the west | +47 | Unincorporated Areas of Lake County.
Multiple Ponding Areas | Area bound by Chinaberry Street to the north, Aspen Street to the east, Alder Avenue to the south, and Poinciana Street to the west | +48 | Unincorporated Areas of Lake County.
Multiple Ponding Areas | Area bound by Fullerville Road to the north, Cooter Pond Road to the east, Quince Avenue to the south, and Buck Run Drive to the west | +48 | Unincorporated Areas of Lake County.
Multiple Ponding Areas | Area bound by Quince Avenue to the north, Chinaberry Street to the east and south, and Royal Trails Road to the west | +48 | Unincorporated Areas of Lake County.
Multiple Ponding Areas | Area bound by Saffron Avenue to the north, Mango Street to the east, West Thyme Avenue to the south, and Royal Trails Road to the west | +48 | Unincorporated Areas of Lake County.
Multiple Ponding Areas | Area bound by Seagrape Avenue to the north, Apricot Avenue to the east and south, and Honeysuckle Street to the west | +49 | Unincorporated Areas of Lake County.
Multiple Ponding Areas | Area bound by Saffron Avenue to the north, Chinaberry Street to the east and south, and Royal Trails Road to the west | +49 | Unincorporated Areas of Lake County.
Multiple Ponding Areas | Area bound by Saffron Avenue to the north, Mango Street to the east, Alder Avenue to the south, and Poinciana Street to the west | +49 | Unincorporated Areas of Lake County.
Multiple Ponding Areas | Area bound by West Thyme Avenue to the north, Aspen Street to the east, Red Oak Avenue to the south, and Royal Trails Road to the west | +49 | Unincorporated Areas of Lake County.
Multiple Ponding Areas | Area bound by East Thyme Avenue to the north, Aspen Street to the east, Alder Avenue to the south, and Poinciana Street to the west | +49 | Unincorporated Areas of Lake County.
Multiple Ponding Areas | Area bound by Almond Tree Lane to the north, Aspen Street to the east, East Thyme Avenue to the south, and Datura Street to the west | +50 | Unincorporated Areas of Lake County.
Multiple Ponding Areas | Area bound by Quince Avenue to the north, Chinaberry Street to the east, Kumquat Avenue to the south, and Cashew Street to the west | +50 | Unincorporated Areas of Lake County.
Multiple Ponding Areas | Area bound by Quince Avenue to the north, West Lake Road to the east, Chinaberry Street to the south, and Cashew Street to the west | +53 | Unincorporated Areas of Lake County.
Ponding Area | Area bound by Royal Trails Road to the north and east, Tamarac Street to the south, and Maggie Jones Road to the west | +38 | Unincorporated Areas of Lake County.
Ponding Area | Area approximately 575 feet southwest of the intersection of Tamarac Street and Violet Avenue, bound by Fullerville Road to the north, Royal Trails Road to the east, and Maggie Jones Road to the south and west | +39 | Unincorporated Areas of Lake County.
Ponding Area | Area approximately 470 feet southwest of the intersection of Tamarac Street and Violet Avenue, bound by Fullerville Road to the north, Royal Trails Road to the east, and Maggie Jones Road to the south and west | +40 | Unincorporated Areas of Lake County.
Ponding Area | Area bound by Royal Trails Road to the north and east, Saffron Avenue to the south, and Maggie Jones Road to the west | +41 | Unincorporated Areas of Lake County.
Ponding Area | Area approximately 340 feet southwest of the intersection of Tamarac Street and Violet Avenue, bound by Fullerville Road to the north, Royal Trails Road to the east, and Maggie Jones Road to the south and west | +41 | Unincorporated Areas of Lake County.
Ponding Area | Area bound by Poinciana Street to the north and west, Holly Branch Road to the east, and Steward Road to the south | +41 | Unincorporated Areas of Lake County.
Ponding Area | Area bound by Pandorea Avenue to the north, Clover Street to the east, State Route 44 to the south, and Lantana Street to the west | +43 | Unincorporated Areas of Lake County.
Ponding Area | Area bound by Larkspur Avenue to the north, State Route 44 to the east and south, and Rabanal Trail to the west | +43 | Unincorporated Areas of Lake County.
Ponding Area | Area bound by Rory Lane to the north, State Route 44 to the east and south, and Poinciana Street to the west | +44 | Unincorporated Areas of Lake County.
Ponding Area | Area bound by Maggie Jones Road to the north, Royal Trails Road to the east, Red Oak Avenue to the south, and Back Forty Road to the west | +44 | Unincorporated Areas of Lake County.
Ponding Area | Area bound by Tamarac Street to the north, Violet Avenue to the east, Royal Trails Road to the south, and Maggie Jones Road to the west | +44 | Unincorporated Areas of Lake County.
Ponding Area | Area bound by Royal Trails Road to the north and east, State Route 44 to the south, and Wildflower Way to the west | +45 | Unincorporated Areas of Lake County.
Ponding Area | Area bound by Cinnamon Avenue to the north, Fir Street to the east, and Royal Trails Road to the south and west | +45 | Unincorporated Areas of Lake County.
Ponding Area | Area bound by Saffron Avenue to the north, Royal Trails Road to the east, Poinciana Street to the south, and Tamarac Street to the west | +45 | Unincorporated Areas of Lake County.
Ponding Area | Area bound by Ixora Avenue to the north, Bamboo Street to the east, Lupine Avenue to the south, and Windward Avenue to the west | +46 | Unincorporated Areas of Lake County.
Ponding Area | Area bound by Yucca Avenue to the north, Jericho Trail to the east, Pandorea Avenue to the south, and Windward Avenue to the west | +46 | Unincorporated Areas of Lake County.
Ponding Area | Area bound by Primrose Lane to the north, Poinciana Street to the east, Red Oak Avenue to the south, and Royal Trails Road to the west | +46 | Unincorporated Areas of Lake County.
Ponding Area | Area bound by Red Oak Avenue to the north and east, and Royal Trails Road to the south and west | +46 | Unincorporated Areas of Lake County.
Ponding Area | Area bound by Red Oak Avenue to the north, Pandorea Avenue to the east and south, and Jericho Trail to the west | +46 | Unincorporated Areas of Lake County.
Ponding Area | Area bound by West Veronica Avenue to the north, Apple Street to the east, Alder Avenue to the south, and Alder Court to the west | +46 | Unincorporated Areas of Lake County.
Ponding Area | Area bound by Aster Court to the north and west, Royal Trails Road to the east, and Redgum Court to the south | +46 | Unincorporated Areas of Lake County.
Ponding Area | Area bound by Division Street to the north, Dahlia Street to the east, Nutmeg Avenue to the south, and Abele Street to the west | +46 | Unincorporated Areas of Lake County.
Ponding Area | Area bound by Coconut Avenue to the north, Wildflower Way to the east, State Route 44 to the south, and Sunflower Street to the west | +47 | Unincorporated Areas of Lake County.
Ponding Area | Area approximately 1,025 feet southeast of the intersection of Royal Trails Road and Greenbrier Street, bound by Royal Trails Road to the north and east, Wildflower Way to the south, and Greenbrier Street to the west | +47 | Unincorporated Areas of Lake County.
Ponding Area | Area bound by Hemlock Lane to the north, Poinciana Street to the east, Primrose Lane to the south, and Royal Trails Road to the west | +47 | Unincorporated Areas of Lake County.
Ponding Area | Area bound by Hawthorn Avenue to the north, Alder Way to the east, Alder Avenue to the south, and Poinciana Street to the west | +47 | Unincorporated Areas of Lake County.
Ponding Area | Area bound by Chinaberry Street to the north, Persimmon Street to the east, Hawthorn Avenue to the south, and Poinciana Street to the west | +47 | Unincorporated Areas of Lake County.
Ponding Area | Area bound by East Veronica Avenue to the north, Rabanal Trail to the east, Scrub Oak Lane to the south, and Poinciana Street to the west | +47 | Unincorporated Areas of Lake County.
Ponding Area | Area approximately 580 feet southeast of the intersection of Royal Trails Road and Greenbrier Street, bound by Royal Trails Road to the north and east, Wildflower Way to the south, and Greenbrier Street to the west | +48 | Unincorporated Areas of Lake County.
Ponding Area | Area approximately 370 feet southeast of the intersection of Royal Trails Road and West Thyme Avenue, bound by West Thyme Avenue to the north, West Thyme Court to the east, Daffodil Avenue to the south, and Royal Trails Road to the west | +48 | Unincorporated Areas of Lake County.
Ponding Area | Area bound by Saffron Avenue to the north, West Saffron Court to the east, Poinciana Street to the south, and Royal Trails Road to the west | +48 | Unincorporated Areas of Lake County.
Ponding Area | Area bound by Poinciana Street to the north and east, Viola Way to the south, and Royal Trails Road to the west | +49 | Unincorporated Areas of Lake County.
Ponding Area | Area bound by Fullerville Road to the north, Jewell Drive to the east, Seagrape Avenue to the south, and Redlands Drive to the west | +49 | Unincorporated Areas of Lake County.
Ponding Area | Area bound by Fullerville Road to the north, Bear Lake Boulevard to the east, Seagrape Avenue to the south, and Buck Run Drive to the west | +49 | Unincorporated Areas of Lake County.
Ponding Area | Area bound by Saffron Avenue to the north, West Saffron Court to the west, Vitex Avenue to the south, and Royal Trails Road to the west | +49 | Unincorporated Areas of Lake County.
Ponding Area | Area bound by Eddy Lane to the north, Cassia Street to the east, Nutmeg Avenue to the south, and Aspen Street to the west | +49 | Unincorporated Areas of Lake County.
Ponding Area | Area bound by Vitex Avenue to the north, Aspen Street to the east, West Thyme Avenue to the south, and Poinciana Street to the west | +50 | Unincorporated Areas of Lake County.
Ponding Area | Area bound by Kumquat Avenue to the north, Chinaberry Street to the east and south, and Cashew Street to the west | +50 | Unincorporated Areas of Lake County.
Ponding Area | Area bound by Seagrape Avenue to the north, Jewell Drive to the east, Tulip Avenue to the south, and Apricot Avenue to the west | +50 | Unincorporated Areas of Lake County.
Ponding Area | Area bound by East Veronica Avenue to the north, Aspen Street to the east, Alder Avenue to the south, and Balsam Street to the west | +51 | Unincorporated Areas of Lake County.
Ponding Area | Area bound by East Thyme Avenue to the north, Rabanal Trail to the east, East Veronica Avenue to the south, and Aspen Street to the west | +51 | Unincorporated Areas of Lake County.
Ponding Area | Area bound by Verano Drive to the north, Jewell Drive to the east, Buck Lake Road to the south, and Apricot Avenue to the west | +51 | Unincorporated Areas of Lake County.
Ponding Area | Area bound by Buck Lake Road to the north, Saint Claire Lake Drive to the east and south, and Chinaberry Street to the west | +51 | Unincorporated Areas of Lake County.
Ponding Area | Area bound by Seagrape Avenue to the north, Fir Street to the east, Quince Avenue to the south, and Royal Trails Road to the west | +51 | Unincorporated Areas of Lake County.
Ponding Area | Area bound by Vitex Avenue to the north, Shady Rose Court to the east, West Thyme Avenue to the south, and Poinciana Street to the west | +52 | Unincorporated Areas of Lake County.
Ponding Area | Area bound by Chinaberry Street to the north, Ash Avenue to the east, East Thyme Avenue to the south, and Kumquat Avenue to the west | +52 | Unincorporated Areas of Lake County.
Ponding Area | Area bound by Nutmeg Avenue to the north, Dahlia Street to the east, East Thyme Avenue to the south, and Aspen Street to the west | +52 | Unincorporated Areas of Lake County.
Ponding Area | Area bound by Saffron Avenue to the north, West Lake Road to the east, East Thyme Avenue to the south, and Chinaberry Street to the west | +54 | Unincorporated Areas of Lake County.
Ponding Area | Area bound by Nutmeg Avenue to the north, Locust Street to the east, Larkspur Avenue to the south, and Dahlia Street to the west | +54 | Unincorporated Areas of Lake County.
Ponding Area | Area bound by Quince Avenue to the north, Saint Claire Lake Drive to the east, Saffron Avenue to the south, and Chinaberry Street to the west | +55 | Unincorporated Areas of Lake County.
Ponding Area | Area bound by Tulip Avenue to the north, Saint Claire Lake Drive to the east, Quince Avenue to the south, and Chinaberry Street to the west | +56 | Unincorporated Areas of Lake County.
Ponding Area D2L | Area bound by South Old Dixie Highway to the north and east, Shiloh Avenue to the south, and Arlington Avenue to the west | +74 | Town of Lady Lake.
St. Johns River | Approximately 2.1 miles upstream of State Route 40 | +7 | Unincorporated Areas of Lake County.
| Approximately 2.6 miles upstream of State Route 44 | +7
Vista Lake | Entire shoreline within community | +106 | Unincorporated Areas of Lake County.
Wolf Branch | Approximately 0.9 mile downstream of Wolf Branch Road | +83 | City of Mount Dora, Unincorporated Areas of Lake County.
| Approximately 645 feet upstream of Country Club Boulevard | +168
* National Geodetic Vertical Datum. + North American Vertical Datum. # Depth in feet above ground. ‸ Mean Sea Level, rounded to the nearest 0.1 meter.
ADDRESSES
City of Leesburg
Maps are available for inspection at the Public Works Department, 550 South 14th Street, Leesburg, FL 34748.
City of Mount Dora
Maps are available for inspection at the Building and Zoning Department, 510 North Baker Street, Mount Dora, FL 32757.
Town of Lady Lake
Maps are available for inspection at the Town Hall, 409 Fennell Boulevard, Lady Lake, FL 32159.
Unincorporated Areas of Lake County
Maps are available for inspection at the Lake County Public Works Department, 437 Ardice Avenue, Eustis, FL 32726.
Sevier County, Utah, and Incorporated Areas
Docket No.: FEMA-B-1188
Albinus Canyon | Approximately 400 feet downstream of Old U.S. Highway 89 | +5343 | Unincorporated Areas of Sevier County.
| Approximately 500 feet upstream of I-70 | +5445
East Koosharem Creek | Approximately 1,800 feet downstream of West 200 South Street | +6870 | Town of Koosharem, Unincorporated Areas of Sevier County.
| Approximately 500 feet upstream of North 300 West Street | +6975
Indian Creek | Approximately 500 feet downstream of East 300 North Street | +5416 | Town of Joseph.
| At the downstream side of I-70 | +5504
Indian Creek Split Flow | Approximately 400 feet downstream of State Highway 118 | +5435 | Town of Joseph.
| At the Indian Creek divergence | +5485
Koosharem Creek | Approximately 1,700 feet downstream of West 200 South Street | +6878 | Town of Koosharem, Unincorporated Areas of Sevier County.
| Approximately 0.4 mile upstream of West 200 North Street | +7037
North Koosharem Creek | Approximately 700 feet downstream of North 200 East Street | +6893 | Town of Koosharem, Unincorporated Areas of Sevier County.
| Approximately 1,800 feet upstream of North 300 West Street | +7033
* National Geodetic Vertical Datum. + North American Vertical Datum. # Depth in feet above ground. ‸ Mean Sea Level, rounded to the nearest 0.1 meter.
ADDRESSES
Town of Joseph
Maps are available for inspection at 25 East 100 North Street, Joseph, UT 84739.
Town of Koosharem
Maps are available for inspection at 45 North Main Street, Koosharem, UT 84744.
Unincorporated Areas of Sevier County
Maps are available for inspection at 250 North Main Street, Richfield, UT 84701.
Chesterfield County, Virginia, and Incorporated Areas
Docket Nos.: FEMA-B-1097 and FEMA-B-1230
Appomattox River | Approximately 0.9 mile upstream of the confluence with Swift Creek | *9 | Unincorporated Areas of Chesterfield County.
| At the Chesterfield County/City of Colonial Heights/City of Petersburg boundary | *20
Blackman Creek | At the confluence with Deep Creek and Horsepen Creek | *197 | Unincorporated Areas of Chesterfield County.
| Approximately 3.7 miles upstream of Otterdale Road (State Route 667) | *287
Crooked Branch | On the upstream side of State Highway 288 | *131 | Unincorporated Areas of Chesterfield County.
| At the upstream side of Hollyberry Drive | *170
Deep Creek | At the confluence with the Swift Creek Reservoir | *182 | Unincorporated Areas of Chesterfield County.
| At the confluence with Blackman Creek and Horsepen Creek | *197
Dry Creek | At the upstream side of Hull Street (U.S. Route 360 Westbound) | * 185 | Unincorporated Areas of Chesterfield County.
| Approximately 0.5 mile upstream of Hull Street (U.S. Route 360 Westbound) | *185
Fuqua Branch | At the confluence with Dry Creek | *185 | Unincorporated Areas of Chesterfield County.
| Approximately 2.2 miles upstream of the Ashbrook Lake Dam | *261
Great Branch | Approximately 500 feet upstream of Hamlin Creek Parkway | *103 | Unincorporated Areas of Chesterfield County.
| Approximately 250 feet downstream of Chalkley Road | *141
Great Branch (downstream) | At the Proctors Creek confluence | *91 | Unincorporated Areas of Chesterfield County.
| Approximately 500 feet upstream of Hamlin Creek Parkway | *103
Great Branch (upstream) | Approximately 250 feet downstream of Chalkey Road | *141 | Unincorporated Areas of Chesterfield County.
| Approximately 1,450 feet upstream of Chalkey Road | *146
Great Branch Tributary | At the confluence with Great Branch | *129 | Unincorporated Areas of Chesterfield County.
| Approximately 1,000 feet downstream of Ecoff Avenue | *129
Horsepen Creek | At the confluence with Blackman Creek and Deep Creek | *197 | Unincorporated Areas of Chesterfield County.
| Approximately 3.0 miles upstream of the confluence with Blackman Creek and Deep Creek | *257
Johnson Creek | At the downstream side of Allied Road (State Route 287) | *8 | Unincorporated Areas of Chesterfield County.
| Approximately 0.8 mile upstream of Old Bermuda Hundred Road | *128
Johnson Creek Tributary | At the Johnson Creek confluence | *55 | Unincorporated Areas of Chesterfield County.
| Approximately 100 feet upstream of Bermuda Hundred Road | *63
Lake Chesdin | Entire shoreline in Chesterfield County | *163 | Unincorporated Areas of Chesterfield County.
Little Tomahawk Creek | At the confluence with the Swift Creek Reservoir | *184 | Unincorporated Areas of Chesterfield County.
| Approximately 1,800 feet upstream of the confluence with the Swift Creek Reservoir | *184
Proctors Creek | On the upstream side of the railroad | *27 | Unincorporated Areas of Chesterfield County.
| Approximately 1,200 feet upstream of State Route 288 Eastbound | *176
Swift Creek | At Woolridge Road (State Route 668) | *182 | Unincorporated Areas of Chesterfield County.
| At the Powhatan County boundary | *227
Swift Creek Reservoir | Between Swift Creek Reservoir Dam and Woolridge Road (State Route 668) | *182 | Unincorporated Areas of Chesterfield County.
| Between Genito Road and the confluence with Little Tomahawk Creek and Tomahawk Creek | *184
Tomahawk Creek | At the confluence with the Swift Creek Reservoir | *184 | Unincorporated Areas of Chesterfield County.
| Approximately 1,500 feet upstream of the confluence with the Swift Creek Reservoir | *184
Turkey Creek | At the confluence with Swift Creek | *194 | Unincorporated Areas of Chesterfield County.
| Approximately 1.7 miles upstream of Mount Herman Road (State Route 606) | *258
Winterpock Creek | At the confluence with Lake Chesdin | *163 | Unincorporated Areas of Chesterfield County.
| Approximately 450 feet upstream of Beach Road (State Route 655) | *240
* National Geodetic Vertical Datum. + North American Vertical Datum. # Depth in feet above ground. ‸ Mean Sea Level, rounded to the nearest 0.1 meter.
ADDRESSES
Unincorporated Areas of Chesterfield County
Maps are available for inspection at 9800 Government Center Parkway, Chesterfield, VA 23832.
Marquette County, Wisconsin, and Incorporated Areas
Docket No.: FEMA-B-1229
Fox River | Approximately 1.8 miles downstream of State Highway 22 | +770 | City of Montello, Unincorporated Areas of Marquette County, Village of Endeavor.
| At the Columbia County boundary | +779
Montello River | Approximately 292 feet downstream of the State Highway 22 bridge | +771 | City of Montello.
| At Montello Granite Company Dam | +774
Neenah Creek | At the most downstream Columbia County boundary | +782 | Unincorporated Areas of Marquette County.
| At the most upstream Columbia County boundary | +789
* National Geodetic Vertical Datum. + North American Vertical Datum. # Depth in feet above ground. ‸ Mean Sea Level, rounded to the nearest 0.1 meter.
ADDRESSES
City of Montello
Maps are available for inspection at 20 Underwood Avenue, Montello, WI 53949.
Unincorporated Areas of Marquette County
Maps are available for inspection at 77 West Park Street, Montello, WI 53949.
Village of Endeavor
Maps are available for inspection at 400 Church Street, Endeavor, WI 53930.

(Catalog of Federal Domestic Assistance No. 97.022, “Flood Insurance.”)

Dated: November 8, 2012.
James A. Walke,
Acting Deputy Associate Administrator for Mitigation, Department of Homeland Security, Federal Emergency Management Agency.

[FR Doc. 2012-29686 Filed 12-7-12; 8:45 am]

BILLING CODE 9110-12-P